ENVIRONMENTAL PROTECTION AGENCY

[FRL-7929-4]

Science Advisory Board Staff Office; Notification of an Upcoming Science Advisory Board Meeting

AGENCY: Environmental Protection Agency (EPA).

ACTION: Notice.

SUMMARY: The EPA Science Advisory Board (SAB) Staff Office announces a public teleconference meeting of the chartered SAB to discuss two draft SAB reports.

DATES: July 13, 2005, 3-5 p.m. (eastern time).

ADDRESSES: The meeting for this review will be held by telephone only.

FOR FURTHER INFORMATION CONTACT: Members of the public who wish to obtain further information regarding this teleconference meeting may contact Mr. Thomas O. Miller, Designated Federal Officer (DFO), U.S. EPA Science Advisory Board via phone (202-343-9982) or e-mail at miller.tom@epa.gov.

The SAB Mailing address is: U.S. EPA, Science Advisory Board (1400F), 1200 Pennsylvania Avenue, NW., Washington, DC 20460. General information about the SAB, as well as any updates concerning the meeting announced in this notice, may be found on the SAB Web site at: http://www.epa.gov/sab.

SUPPLEMENTARY INFORMATION: The purpose of this SAB telephone conference meeting is to conduct a final public review and discussion of two draft SAB reports. One is Identifying and Calculating Economic Benefit That Goes Beyond Avoided and/or Delayed Costs: An SAB Advisory and the other is Advisory Review of EPA's Draft Ecological Benefits Assessment Strategic Plan; An Advisory by the SAB Committee on Valuing the Protection of Ecological Systems and Services. The focus of the meeting is to consider whether: (i) The original charge questions to the SAB review panel have been adequately addressed in the draft report; (ii) the draft report is clear and logical; (iii) the conclusions drawn, or recommendations made in the draft report, are supported by the body of the report; and (iv) if there are any obvious technical errors, omissions, or issues that are inadequately dealt with in the draft report.

1. Illegal Competitive Advantage (ICA) Background Information—EPA's Office of Enforcement and Compliance Assurance (OECA) requested that the EPA Science Advisory Board review the OECA White Paper entitled Identifying and Calculating Economic Benefit that Goes Beyond Avoided and/or Delayed Costs, dated May 25, 2003. The White Paper addressing “illegal competitive advantage” (ICA) issues is related to EPA's policy of recapturing violators' economic benefit from environmental noncompliance. Most of the Agency's cases involving this type of economic benefit focus on the financial gain that arises from delayed and/or avoided pollution control costs. In these situations, the Agency calculates the economic benefit using the Benefits (BEN) computer model. EPA's White Paper provides an approach to capture economic benefits from situations that are not covered by the BEN model's focus on avoided and/or delayed expenditures. Accordingly, the SAB Staff Office formed an Ad Hoc Panel to review the EPA White Paper. This was announced in a notice in the Federal Register of August 6, 2003 (68 FR 46604) in which the SAB Staff Office solicited nominations for Panel membership. The Panel held several meetings to discuss and draft its advisory as announced in Federal Register notices published on June 25, 2004 (69 FR 35599) and January 6, 2005 (70 FR 1244). The SAB ICA Quality Review Committee reviewed the draft report resulting from the SAB review at its meeting on April 29, 2005 (70 FR 17688). These notices can be found on the SAB Web site at: http://www.epa.gov/sab/panels/icaebapanel.html.

2. Background on the Advisory Report on EPA's draft Ecological Benefits Assessment Strategic Plan. EPA's Office of Policy, Economics and Innovation, representing an Agency workgroup charged with drafting an Ecological Benefits Assessment Strategic Plan for the Agency, requested that the SAB Committee on Valuing the Protection of Ecological Systems and Services (C-VPESS) conduct an advisory review of the draft plan (draft review document available on the Web at http://yosemite.epa.gov/ee/epa/eed.nsf/Webpages/SABReview.html). The C-VPESS held a public advisory meeting on January, 25, 2005 to be briefed and to deliberate on the draft plan and related charge questions and approved a consensus draft of the advisory report at a public meeting on April 12-13, 2005. Notices of those public meetings were published in the Federal Register (70 FR 1244; 70 FR 15085-15086).

Availability of Review Material for the Board Meeting: The Draft reports that are the subject of this meeting are available on the SAB Web site at: http://www.epa.gov/sab/panels/icaebapanel.html.

Procedures for Public Comment: The SAB Staff Office accepts written public comments of any length, and accommodates oral public comments whenever possible. The SAB Staff Office expects that public statements presented at SAB meetings will not repeat previously submitted oral or written statements. Oral Comments: In general, each individual or group requesting an oral presentation at a teleconference meeting will usually be limited to no more than three minutes per speaker, and no more than fifteen minutes total. Interested parties should contact the DFO noted above in writing via e-mail at least one week prior to the meeting to be placed on the public speaker list for the meeting. Speakers should provide an electronic copy of their comments to the DFO for distribution to interested parties and participants in the meeting. Written Comments: Although written comments are accepted until the date of the meeting, written comments should be received in the SAB Staff Office at least one week prior to the meeting date so that the comments may be made available to the committee for their consideration. Comments should be supplied to the DFO at the address/contact information above in the following formats: one hard copy with original signature, and one electronic copy via e-mail (acceptable file format: Adobe Acrobat, WordPerfect, Word, or Rich Text files (in IBM-PC/Windows 98/2000/XP format).

Dated: June 21, 2005.
Anthony F. Maciorowski,
Acting Director, EPA Science Advisory Board Staff Office.

[FR Doc. 05-12710 Filed 6-27-05; 8:45 am]

BILLING CODE 6560-50-P